ENVIRONMENTAL PROTECTION AGENCY

[ER-FRL-6649-2]

Environmental Impact Statements; Notice of Availability

Responsible Agency: Office of Federal Activities, General Information (202) 564-7167 or http://www.epa.gov/compliance/nepa.

Weekly receipt of Environmental Impact Statements

Filed March 1, 2004 Through March 5, 2004

Pursuant to 40 CFR 1506.9.

EIS No. 040101, Draft EIS, SFW, CO, Rocky Flats National Wildlife Refuge Comprehensive Conservation Plan, 15-Year Guidance for Management of Refuge Operations, Habitat Restoration and Visitor Services, Implementation, Jefferson and Boulder Counties, CO, Comment Period Ends: April 26, 2004, Contact: Laurie Shannon (303) 289-0151. This document is available on the Internet at: http://rockyflats.fws.gov

EIS No. 040102, Draft EIS, SFW, AK, Alaska Peninsula and Becharof National Wildlife Refuges, Draft Revised Comprehensive Conservation Plan, Implementation, AK, Comment Period Ends: May 31, 2004, Contact: Peter Wikoff (907) 786-3837. This document is available on the Internet at: http://www.r7.fws.gov/planning

EIS No. 040104, Final EIS, AFS, MT, Logan Creek Ecosystem Restoration Project, Hazardous Fuel Reduction across the Landscape and Vegetation Management Restoration or Maintenance, Flathead National Forest, Tally Lake Ranger District, Flathead County, MT, Wait Period Ends: April 12, 2004, Contact: Bryan Donner (406) 863-5408.

EIS No. 040105, Draft EIS, AFS, MT, Fortine Project, To Implement Vegetation Management, Timber Harvest and Fuel Reduction Activities, Kootenai National Forest, Fortine Ranger District, Lincoln County, MT, Comment Period Ends: April 26, 2004, Contact: Joleen Dunham (406) 882-4451.

EIS No. 040106, Draft EIS, AFS, MT, Lower Big Creek Project, To Implement Timber Harvest and Prescribed Burning, Kootenai National Forest Plan, Rexford Ranger District, Lincoln County, MT, Comment Period Ends: April 26, 2004, Contact: Chris Fox (406) 296-2536.

EIS No. 040107, Final EIS, AFS, FL, USDA Forest Service and State of Florida Land Exchange Project, Assembled Exchange of both Fee, Ownership Parcels and Partial Interest Parcels, Baker, Citrus, Franklin, Hernando, Lake, Liberty, Okaloosa, Osceola, Santa Rosa and Sumter Counties, FL, Wait Period Ends: April 12, 2004, Contact: Gary Hegg (850) 926-3561.

EIS No. 040108, Draft EIS, AFS, WY, Upper Green River Area Rangeland Project, Propose Site Specific Grazing Management Practices, Bridger-Teton Forest, Sublette, Teton and Fremont Counties, WY, Comment Period Ends: April 26, 2004, Contact: Craig Trulock (307) 367-4326.

Amended Notices

EIS No. 040022, Draft EIS, AFS, AK, Commercially Guided Helicopter Skiing on the Kena, Peninula, Issuance of a Five Year Special Use Permit, Chugach National Forest, Kenai Peninsula, AK, Comment Period Ends: May 10, 2004, Contact: Teresa Paquet (907) 754-2314. Revision of FR Notice Published on 1/23/2004: CEQ Comment Period Ending 3/23/2004 has been Extended to 5/10/2004.

Dated: March 9, 2004.
Ken Mittelholtz,
Environmental Protection Specialist, Office of Federal Activities.

[FR Doc. 04-5647 Filed 3-11-04; 8:45 am]

BILLING CODE 6560-50-P